DEPARTMENT OF COMMERCE

National Oceanic and Atmospheric Administration

North Pacific Fishery Management Council; Notice of Public Meetings

AGENCY: National Marine Fisheries Service (NMFS), National Oceanic and Atmospheric Administration (NOAA), Commerce.

ACTION: Notice; meetings.

SUMMARY: The North Pacific Fishery Management Council (Council) Golden King Crab Price Formula Committee is meeting concerning the arbitration system that is part of the Bering Sea and Aleutian Islands crab rationalization program. The Committee will give specific attention to the development of the price formula for golden king crab under the arbitration system. Additional information is posted on the Council Web site: http://www.alaskafisheries.noaa.gov/npfmc/

DATES: The meetings will take place on May 22, 2012, 1 p.m.-5 p.m. and May 23, 2012, 8:30 a.m.-5 p.m.

ADDRESSES: The meetings will be held at Pacific Seafood Processing Association, 1900 Emerson Place, Suite 205, Seattle, WA.

Council address: North Pacific Fishery Management Council, 605 W. 4th Ave., Suite 306, Anchorage, AK 99501-2252.

FOR FURTHER INFORMATION CONTACT: Mark Fina, Council staff, Phone: 907-271-2809.

SUPPLEMENTARY INFORMATION:

Special Accommodations

These meetings are physically accessible to people with disabilities. Requests for sign language interpretation or other auxiliary aids should be directed to Gail Bendixen at 907-271-2809 at least 7 working days prior to the meeting date.

Dated: May 3, 2012.
Tracey L. Thompson,
Acting Director, Office of Sustainable Fisheries, National Marine Fisheries Service.

[FR Doc. 2012-11015 Filed 5-7-12; 8:45 am]

BILLING CODE 3510-22-P